DEPARTMENT OF JUSTICE

Notice of Lodging of Consent Decree Under the Comprehensive Environmental Response, Compensation, and Liability Act

Notice is hereby given that on February 11, 2009, a Consent Decree in United States v. Northrop Grumman Space & Mission Systems Corp., et al., Civil Action No. 09-0866, was lodged with the United States District Court for the Central District of California.

The Consent Decree resolves claims brought by the United States, on behalf of the United States Environmental Protection Agency (“EPA”), and the California Department of Toxic Substances Control (“DTSC”) under Section 107 of the Comprehensive Environmental Response, Compensation, and Liability Act, 42 U.S.C. 9607, and Section 7003 of the Resource Conservation and Recovery Act, as amended, 42 U.S.C. 6973, related to the releases and threatened releases of hazardous substances at the Puente Valley Operable Unit of the San Gabriel Valley Area 4 Superfund Site (“Site”) in Los Angeles County, California.

The Consent Decree resolves the liability of Northrop Grumman Space & Mission Systems Corp. (“Northrop” or “Performing Settling Defendant”) and 43 cashout parties associated with 17 source properties and their related entities (“Contributing Settling Defendants”) with respect to the groundwater contamination and its investigation and treatment as set forth in the Interim Record of Decision, as modified by the Explanation of Significant Differences. The Consent Decree requires the Performing Settling Defendant, on behalf of all of the Settling Defendants, to construct the intermediate zone remedy to address groundwater contamination and operate it for eight years from the operational and functional date of the groundwater treatment system for the intermediate zone at an estimated cost of $21 million, pay $465,420.90 to EPA for past costs, and pay $90,000 to DTSC for past response costs. The Performing Settling Defendant represents that between 2002 and June 30, 2007, it incurred costs in excess of seven million dollars ($7 million) to implement the intermediate zone remedial action in compliance with the Unilateral Administrative Order No. 2002-06 issued on March 21, 2002, pending negotiations of the Consent Decree. Settling Defendants who currently own source properties within the PVOU are required to provide access and all of the Settling Defendants are required to retain records and provide EPA access to information. The Consent Decree gives all Settling Defendants a covenant not to sue. The Consent Decree reserves the United States' right to sue the Settling Defendants for the final Record of Decision and is subject to standard reopeners and reservations of rights.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Northrop Grumman Space & Mission Systems Corp., D.J. Ref. 90-11-2-354/16. Commenters may request an opportunity for a public meeting in the affected area, in accordance with Section 7003 of RCRA, 42 U.S.C. 6973(d).

The Consent Decree may be examined at U.S. EPA Region IX at 75 Hawthorne Street, San Francisco, California 94105. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood tonia.fleetwood@usdoj.gov, fax no. (202) 514-0097, phone confirmation number (202) 514-1547. In requesting a copy from the Consent Decree Library, please enclose a check in the amount of $95.50 (25 cents per page reproduction cost) payable to the U.S. Treasury or, if by e-mail or fax, forward a check in that amount to the Consent Decree Library at the stated address.

Henry Friedman,
Assistant Section Chief, Environmental Enforcement Section, Environment and Natural Resources Division.

[FR Doc. E9-4367 Filed 2-27-09; 8:45 am]

BILLING CODE 4410-15-P